DEPARTMENT OF ENERGY

Federal Energy Regulatory Commission

Combined Notice of Filings #1

Take notice that the Commission received the following electric corporate filings:

Docket Numbers: EC21-101-000.

Applicants: Kingfisher Wind, LLC, DIF Infra 6 US LLC.

Description: Application for Authorization Under Section 203 of the Federal Power Act of Kingfisher Wind, LLC, et al.

Filed Date: 6/11/21.

Accession Number: 20210611-5013.

Comments Due: 5 p.m. ET 7/2/21.

Take notice that the Commission received the following electric rate filings:

Docket Numbers: ER10-3069-009; ER10-3070-009.

Applicants: Alcoa Power Generating Inc., Alcoa Power Marketing LLC.

Description: Triennial Market Power Analysis for Central Region of Alcoa Power Generating Inc., et al.

Filed Date: 6/10/21.

Accession Number: 20210610-5153.

Comments Due: 5 p.m. ET 8/9/21

Docket Numbers: ER21-787-002.

Applicants: ISO New England Inc.

Description: Compliance filing: ISO-NE; Comp Filing (Updates to CONE, Net CONE & Cap Performance Payment Rate) to be effective 5/29/2021.

Filed Date: 6/11/21.

Accession Number: 20210611-5048.

Comments Due: 5 p.m. ET 7/2/21.

Docket Numbers: ER19-1575-005; ER10-2488-021; ER10-3050-007; ER10-3052-006; ER10-3053-007; ER10-3245-013; ER10-3249-013; ER10-3250-013; ER11-2639-014; ER13-1586-017; ER14-2871-016; ER15-110-015; ER15-463-015; ER15-621-015; ER15-622-015; ER16-182-011; ER16-72-011; ER16-902-008 ER17-47-008; ER17-48-009; ER18-2013-005; ER18-2240-004; ER18-2241-004; ER18-47-007; ER19-1660-004; ER19-1662-004; ER19-1667-004; ER19-426-004; ER19-427-004; ER20-71-003; ER20-72-003; ER20-75-003; ER20-76-005; ER20-77-003; ER20-79-003.

Applicants: Alta Oak Realty, LLC, Cabazon Wind Partners, LLC, Cameron Ridge, LLC, Cameron Ridge II, LLC, Coachella Hills Wind, LLC, Coachella Wind Holdings, LLC, DifWind Farms LTD VI, Foote Creek II, LLC, Foote Creek III, LLC, Foote Creek IV, LLC, Garnet Wind, LLC, LUZ Solar Partners VIII, Ltd., LUZ Solar Partners IX, Ltd., Mojave 3/4/5 LLC, Mojave 16/17/18 LLC, Oasis Alta, LLC, Oasis Power Partners, LLC, Pacific Crest Power, LLC, Painted Hills Wind Holdings, LLC, Ridge Crest Wind Partners, LLC, Ridgetop Energy, LLC, Rock River I, LLC, San Gorgonio Westwinds II, LLC, San Gorgonio Westwinds II—Windustries, LLC, Tehachapi Plains Wind, LLC, Terra-Gen Dixie Valley, LLC, Terra-Gen Energy Services, LLC, Terra-Gen Mojave Windfarms, LLC, Terra-Gen VG Wind, LLC,TGP Energy Management, LLC, Voyager Wind I, LLC, Voyager Wind II, LLC, Voyager Wind IV Expansion, LLC, Whitewater Hill Wind Partners, LLC, Yavi Energy, LLC.

Description: Notice of Change in Status of Alta Oak Realty, LLC, et al.

Filed Date: 6/10/21.

Accession Number: 20210610-5154.

Comments Due: 5 p.m. ET 7/1/21.

Docket Numbers: ER21-1635-001.

Applicants: PJM Interconnection, L.L.C.

Description: Tariff Amendment: Response to Deficiency Letter—Black Start Revisions to be effective 6/6/2021.

Filed Date: 6/11/21.

Accession Number: 20210611-5049.

Comments Due: 5 p.m. ET 7/2/21.

Docket Numbers: ER21-1923-000.

Applicants: Black Rock Wind Force, LLC.

Description: Supplement to May 17, 2021 Black Rock Wind Force, LLC tariff filing.

Filed Date: 6/11/21.

Accession Number: 20210611-5105.

Comments Due: 5 p.m. ET 7/2/21.

Docket Numbers: ER21-2116-000.

Applicants: PacifiCorp.

Description: § 205(d) Rate Filing: PowerEx LTF PTP Conditional Firm Agreements to be effective 7/1/2021.

Filed Date: 6/10/21.

Accession Number: 20210610-5124.

Comments Due: 5 p.m. ET 7/1/21.

Docket Numbers: ER21-2117-000.

Applicants: Little Blue Wind Project, LLC.

Description: Baseline eTariff Filing: Little Blue Wind Project, LLC Application for MBR Authority to be effective 8/10/2021.

Filed Date: 6/10/21.

Accession Number: 20210610-5129.

Comments Due: 5 p.m. ET 7/1/21.

Docket Numbers: ER21-2118-000.

Applicants: Dodge Flat Solar, LLC.

Description: Baseline eTariff Filing: Dodge Flat Solar, LLC Application for MBR Authority to be effective 8/10/2021.

Filed Date: 6/10/21.

Accession Number: 20210610-5140.

Comments Due: 5 p.m. ET 7/1/21.

Docket Numbers: ER21-2119-000.

Applicants: Midcontinent Independent System Operator, Inc.

Description: § 205(d) Rate Filing: 2021-06-11_SA 3274 1x50 Mvar Cap Bank at Midport 161 kV 1st Rev MPFCA to be effective 6/3/2021.

Filed Date: 6/11/21.

Accession Number: 20210611-5010.

Comments Due: 5 p.m. ET 7/2/21.

Docket Numbers: ER21-2120-000.

Applicants: PJM Interconnection, L.L.C.

Description: § 205(d) Rate Filing: First Revised ISA, Service Agreement No. 2360; Queue No. AD2-133/Q36 to be effective 5/12/2021.

Filed Date: 6/11/21.

Accession Number: 20210611-5015.

Comments Due: 5 p.m. ET 7/2/21.

Docket Numbers: ER21-2121-000.

Applicants: The Narragansett Electric Company.

Description: § 205(d) Rate Filing: 2021-06-11 Narragansett Borderline Tariff Amendment filing to be effective 6/12/2021.

Filed Date: 6/11/21.

Accession Number: 20210611-5030.

Comments Due: 5 p.m. ET 7/2/21.

Docket Numbers: ER21-2122-000.

Applicants: PJM Interconnection, L.L.C.

Description: § 205(d) Rate Filing: Original ISA, Service Agreement No. 6077; Queue Nos. AA1-146/AA2-030 to be effective 5/12/2021.

Filed Date: 6/11/21.

Accession Number: 20210611-5044.

Comments Due: 5 p.m. ET 7/2/21.

Docket Numbers: ER21-2123-000.

Applicants: Southern California Edison Company.

Description: § 205(d) Rate Filing: Amended LGIA Garland SA No. 171 & Terminate Letter Agreement SA No. 250 to be effective 6/12/2021.

Filed Date: 6/11/21.

Accession Number: 20210611-5047.

Comments Due: 5 p.m. ET 7/2/21.

Docket Numbers: ER21-2124-000.

Applicants: Midcontinent Independent System Operator, Inc.

Description: § 205(d) Rate Filing: 2021-06-11_SA 3393 Ameren IL-Sapphire Sky Wind 1st Rev GIA (J826) to be effective 5/26/2021.

Filed Date: 6/11/21.

Accession Number: 20210611-5050.

Comments Due: 5 p.m. ET 7/2/21.

Take notice that the Commission received the following electric securities filings:

Docket Numbers: ES21-49-000.

Applicants: New York State Electric & Gas Corporation.

Description: Application under Section 204 of the Federal Power Act for Authorization to Issue Securities for New York State Electric & Gas Corporation, et al.

Filed Date: 6/11/21.

Accession Number: 20210611-5045.

Comments Due: 5 p.m. ET 7/2/21.

Take notice that the Commission received the following public utility holding company filings:

Docket Numbers: PH21-10-000.

Applicants: LS Power Development, LLC.

Description: LS Power Development, LLC submits FERC-65B Notice of Non-Material Change in Fact to Waiver Notification.

Filed Date: 6/10/21.

Accession Number: 20210610-5152.

Comments Due: 5 p.m. ET 7/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2021.
Debbie-Anne A. Reese,
Deputy Secretary.

[FR Doc. 2021-12777 Filed 6-16-21; 8:45 am]

BILLING CODE 6717-01-P